NATIONAL SCIENCE FOUNDATION

Sunshine Act Meeting

Agency Holding Meeting: National Science Foundation, National Science Board.

Date and Time: October 19, 2000: 11:45 a.m.-12:00 Noon, Closed Session; October 19, 2000: 1:00 p.m.-3:30 p.m., Closed Session; October 19, 2000: 3:30 p.m.-6:00 p.m., Open Session.

Place: The National Science Foundation, Room 1235, 4201 Wilson Boulevard, Arlington, VA 22230.

Status: Part of this meeting will be closed to the public; Part of this meeting will be open to the public.

Matters to be Considered

Thursday, October 19

Closed Session (11:45 a.m.-12:00 Noon)

—Closed Session Minutes, August 2000

—Personnel

Closed Session (1:00 p.m.-3:30 p.m.)

—Awards and Agreements

—FY 2002 Budget

Open Session (3:30 p.m.-6:00 p.m.)

—Swearing-in, NSB Nominees

—Open Session Minutes, August 2000

—Closed Session Items for December 2000

—Chairman's Report

—Director's Report

—NSF Planning Issues

Mathematics Initiative

Workforce Initiative

NSF Stipends

—NSB 50th Anniversary Commemorative Booklet

—Committee Reports

Marta Cehelsky,
Executive Officer.

[FR Doc. 00-25990 Filed 10-4-00; 4:25 pm]

BILLING CODE 7555-01-M